DEPARTMENT OF ENERGY

Federal Energy Regulatory Commission

[Docket No. RP01-443-000]

Discovery Gas Transmission LLC; Notice of Lost and Unaccounted for Gas Filing

June 7, 2001.

Take notice that on June 1, 2001, Discovery Gas Transmission LLC (Discovery) filed to comply with the terms of its FERC Gas Tariff, First Revised Sheet Nos. 34, 44, and 53 relating to lost and unaccounted for gas for the calendar year 2000.

Discovery states that it has reviewed the amount of lost and unaccounted for gas experienced by the Discovery system during the 2000 calendar year, and based on that review it proposes to retain the current retention rate of 0.5 percent for the period commencing July 1, 2001.

In the June 1, 2001 filing, Discovery filed a request for waiver of section 4 of its FT-1, FT-2, and IT Rate Schedules related to the recovery mechanism for lost and unaccounted for gas.

Discovery states that copies of this filing are being mailed to its customers, state commissions and other interested parties.

Any person desiring to be heard or to protest said filing should file a motion to intervene or a protest with the Federal Energy Regulatory Commission, 888 First Street, N.E., Washington, D.C. 20426, in accordance with sections 385.214 or 385.211 of the Commission's Rules and Regulations. All such motions or protests must be filed on or before June 13, 2001. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-14848 Filed 6-12-01; 8:45 am]

BILLING CODE 6717-01-M